DEPARTMENT OF COMMERCE

International Trade Administration

TRADE AND DEVELOPMENT AGENCY

[Docket Number: 230615-0150]

Change in Deadline for Public Comments on Climate Adaptation Export Competitiveness Request for Information

AGENCY: U.S. Department of Commerce, International Trade Administration (ITA), U.S. Trade and Development Agency (USTDA).

ACTION: Notice and request for public comments; extension of comment period.

SUMMARY: On May 2, 2023, the International Trade Administration (ITA) and the U.S. Agency Trade and Development Agency (USTDA) published in the Federal Register a request for public comment on climate adaptation and resilience-related technologies and services to enhance the U.S. government's understanding of opportunities and challenges for U.S. exporters in these sectors. ITA and USTDA have determined that an extension of the comment period until July 28, 2023, is appropriate. Comments previously submitted need not be resubmitted and will be fully considered.

DATES: The comment period for the notice published on May 2, 2023, requesting public comments on climate adaptation export competitiveness, is extended from June 30, 2023, to July 28, 2023.

ADDRESSES: You may submit electronic comments, identified by Docket Number: 230417-0103 via the Federal e-Rulemaking Portal. Go to https://www.regulations.gov and enter Docket Number: 230417-0103 in the Search box. Click on the “Comment” icon, complete the required fields, and enter or attach your comments.

If you are unable to comment via regulations.gov, you may contact climate@trade.gov for instructions on submitting your comment.

Instructions: Comments sent by any other method, to any other address or individual, or received after the end of the comment period, may not be considered by ITA or USTDA. Comments received before the deadline are a part of the public record and will generally be posted for public viewing on www.regulations.gov without change.

Commenters should include the name of the person or organization filing the comment. All personal identifying information (for example, name, address) voluntarily submitted by the commenter may be publicly accessible. ITA and USTDA will not accept anonymous comments.

For those seeking to submit confidential business information (CBI) for government use only, please clearly mark such submissions as CBI and submit an accompanying redacted version to be made public.

FOR FURTHER INFORMATION CONTACT:

ITA, Anna Cron, International Trade Administration, 1401 Constitution Ave. NW, Washington, DC 20230; telephone: (202) 843-2376; email: climate@trade.gov. Please direct media inquiries to ITA's Office of Public Affairs (202) 482-3809 or publicaffairs@trade.gov.

USTDA, Eric Haxthausen, U.S. Trade and Development Agency; 1101 Wilson Blvd., Suite 1100, Arlington, VA 22209; telephone: (703) 875-4357; email: climateadaptation@ustda.gov. Please direct media inquiries to Paul Marin in USTDA's Office of Public Affairs at (703) 875-4357.

SUPPLEMENTARY INFORMATION: On May 2, 2023, ITA and USTDA published in the Federal Register a request for public comment on climate adaptation export competitiveness (88 FR 27552) to align U.S. government trade promotion and trade policy activities to those sectors and markets that present the greatest opportunities for exporters of climate adaptation and resilience-related technologies and services, as well as to address relevant trade barriers and promote U.S. industry competitiveness, as part of the initiative under Executive Order 14008, “Tackling the Climate Crisis at Home and Abroad” (86 FR 7619). E.O. 14008 puts climate considerations at the forefront of U.S. foreign policy and national security. The request for public comment stated that the comment period would close June 30, 2023. An extension of the comment period will provide additional opportunity for the public to prepare comments to address the questions posed by ITA and USTDA. Therefore, ITA and USTDA are extending the end of the comment period from June 30, 2023, to July 28, 2023. Comments previously submitted need not be resubmitted and will be fully considered.

Dated: June 21, 2023.
Man K. Cho,
Deputy Director, Office of Energy and Environmental Industries.
Eric M. Haxthausen,
Senior Advisor for Climate, Partnerships, and Innovation, U.S. Trade and Development Agency.

[FR Doc. 2023-13706 Filed 6-28-23; 8:45 am]

BILLING CODE 3510-DR-P